DEPARTMENT OF JUSTICE

Notice of Proposed Consent Decree Under the Comprehensive Environmental Response, Compensation, and Liability Act

Notice is hereby given that on August 23, 2011, the United States, on behalf of the U.S. Environmental Protection Agency (“EPA”) filed a Complaint and lodged a proposed Consent Decree in United States v. The Santos/Alviso Partnership, L.P., et al., Case No. CV 11-04139 HRL (N.D. Cal.), relating to the South Bay Asbestos Superfund Site in San Jose, Santa Clara County, California (the “Site”). The Complaint asserts claims against defendants Santos/Alviso Partnership, L.P. (the current owner of a parcel of property at the Site formerly used as part of the Santos Landfill), Santos Management, L.L.C. (the general partner of the Santos/Alviso Partnership), the Estate of Dorothy Santos (a former owner of the landfill property at the time of disposal of hazardous substances), and five Trusts that owned fractional interests in the landfill property at times when EPA incurred response costs there. The Complaint seeks injunctive relief for the performance of response actions, reimbursement of response costs incurred by EPA at the Site, and the entry of a declaratory judgment with respect to EPA's future response costs under Sections 106(a), 107(a), and 113(g) of the Comprehensive Environmental Response, Compensation, and Liability Act of 1980, as amended (“CERCLA”), 42 U.S.C. 9606(a), 9607(a), and 9613(g).

The proposed Consent Decree resolves claims in the Complaint. Under the proposed Consent Decree, the defendants agree to provide EPA with access to the landfill property, to inspect and maintain an existing cap on the landfill property, and to execute and record a “Covenant to Restrict Use of Property—Environmental Restriction” to protect the existing cap. The execution and recordation of this Covenant will bring to completion the remedial action at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. The Santos/Alviso Partnership, L.P., et al., Case No. CV 11-04139 HRL (N.D. Cal.), D.J. Ref. 90-11-2-353/2.

The Consent Decree may be examined at the U.S. Environmental Protection Agency, Region 9, Office of Regional Counsel, 75 Hawthorne Street, San Francisco, California 94105. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $13.50 (.25 cents per page reproduction cost) payable to the U.S. Treasury, or if by e-mail or fax, forward a check in that amount to the Consent Decree Library at the stated address.

Henry Friedman,
Assistant Chief, Environmental Enforcement Section, Environment and Natural Resources Division.

[FR Doc. 2011-22545 Filed 9-1-11; 8:45 am]

BILLING CODE P